DEPARTMENT OF HEALTH AND HUMAN SERVICES

National Institutes of Health

National Institutes of Health Guidelines for Human Stem Cell Research

SUMMARY: The National Institutes of Health (NIH) is extending the public comment period on a revision to the definition of human embryonic stem cells (hESCs) in the “National Institutes of Health Guidelines for Human Stem Cell Research” (Guidelines). Due to a technical problem, comments entered in the Web site between 11:59 p.m. EST on February 28, 2010, through 8 a.m. EST on March 2, 2010, were not received by the agency and should be re-entered in order to be considered.

On February 23, 2010, NIH issued a Federal Register notice (http://edocket.access.gpo.gov/2010/pdf/2010-3527.pdf) requesting public comment on a proposed change to the Guidelines. Due to a technical problem, comments entered in the Web site between 11:59 p.m. EST on February 28, 2010, through 8 a.m. EST on March 2, 2010, were not received by the agency and should be re-entered in order to be considered.

DATES: Written comments on this proposed change must be received by NIH on or before March 26, 2010, in order to be considered.

ADDRESSES: Public comments may be entered at: http://hescregapp.od.nih.gov/comments/add.htm.

Comments may also be mailed to: NIH Stem Cell Guidelines, MSC 7997, 9000 Rockville Pike, Bethesda, Maryland 20892-7997. Comments will be made publicly available. Personally identifiable information (except for organizational affiliations) will be removed prior to making comments publicly available.

Dated: March 10, 2010.
Francis S. Collins,
Director, National Institutes of Health.

[FR Doc. 2010-5948 Filed 3-17-10; 8:45 am]

BILLING CODE 4140-01-P